FEDERAL COMMUNICATIONS COMMISSION

47 CFR Parts 1 and 17

[WT Docket No. 19-212; FCC 19-87]

Completing the Transition to Electronic Filing, Licenses and Authorizations, and Correspondence in the Wireless Radio Services

AGENCY: Federal Communications Commission.

ACTION: Proposed rule.

SUMMARY: This Notice of Proposed Rulemaking (NPRM) builds upon the Commission's recent efforts to modernize its legacy filing, communications, and information retention systems by improving electronic access to data and digitizing Commission communications in a wide variety of services. Specifically, this NPRM proposes to make all filings to the Universal Licensing System (ULS) completely electronic; expand electronic filing and correspondence elements for related systems; and require applicants to provide an email address on the FCC Forms related to these systems. This NPRM also seeks comment on additional rule changes that would further expand the use of electronic filing and electronic service. Together, these proposals will facilitate the remaining steps to transition these systems from paper to electronic, reducing regulatory burdens and environmental waste, and making interaction with these systems more accessible and efficient for those who rely on them.

DATES: Interested parties may file comments on or before October 30, 2019; and reply comments on or before November 14, 2019.

ADDRESSES: You may submit comments, identified by WT Docket No. 19-212, by any of the following methods:

Federal Communications Commission's website: http://apps.fcc.gov/ecfs/. Follow the instructions for submitting comments.

People With Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Jessica Greffenius of the Wireless Telecommunications Bureau, Mobility Division, (202) 418-2986 or Jessica.Greffenius@fcc.gov.

For additional information concerning the Paperwork Reduction Act information collection requirements contained in this NPRM, contact Cathy Williams, Office of Managing Director, at (202) 418-2918 or Cathy.Williams@fcc.gov or email PRA@fcc.gov.

SUPPLEMENTARY INFORMATION:

Comment Filing Procedures

Pursuant to sections 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

Electronic Filers: Comments may be filed electronically using the internet by accessing the ECFS: http://apps.fcc.gov/ecfs/.

Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th St. SW, Room TW-A325, Washington, DC 20554. The filing hours are 8:00 a.m. to 7:00 p.m. All hand deliveries must be held together with rubber bands or fasteners. Any envelopes and boxes must be disposed of before entering the building.

Commercial overnight mail (other than U.S. Postal Service Express Mail and Priority Mail) must be sent to 9050 Junction Drive, Annapolis Junction, MD 20701.

U.S. Postal Service first-class, Express, and Priority mail must be addressed to 445 12th Street SW, Washington, DC 20554.

Initial Paperwork Reduction Analysis

This document contains proposed information collection requirements. The Commission, as part of its continuing effort to reduce paperwork burdens, invites the general public and the Office of Management and Budget (OMB) to comment on the information collection requirements contained in this document, as required by the Paperwork Reduction Act of 1995, Public Law 104-13. In addition, pursuant to the Small Business Paperwork Relief Act of 2002, Public Law 107-198, see 44 U.S.C. 3506(c)(4), the Commission seeks specific comment on how it might further reduce the information collection burden for small business concerns with fewer than 25 employees.

Initial Regulatory Flexibility Act Analysis

As required by the Regulatory Flexibility Act of 1980 (RFA), the Commission has prepared an Initial Regulatory Flexibility Analysis (IRFA) of the possible significant economic impact on small entities of the policies and rules proposed in the NPRM. It requests written public comment on the IRFA, contained at Appendix B to the NPRM. Comments must be filed in accordance with the same deadlines as comments filed in response to the NPRM as set forth on the first page of this document, and have a separate and distinct heading designating them as responses to the IRFA. The Commission's Consumer and Governmental Affairs Bureau, Reference Information Center, will send a copy of the NPRM, including the IRFA, to the Chief Counsel for Advocacy of the Small Business Administration.

Ex Parte Rules

The proceeding this NPRM initiates shall be treated as a “permit-but-disclose” proceeding in accordance with the Commission's ex parte rules.¹ Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

¹ 47 CFR 1.1200 et seq.

Synopsis

ULS and Supporting Systems. The Commission manages applications for all wireless radio licenses through the ULS. Other systems accept filings and work in tandem with the ULS: The Antenna Structure Registration (ASR) System, the Tower Construction Notification System (TCNS), and the Electronic Section 106 (E-106) System. The ASR System ensures that physical structures used for wireless radio operations that are above a certain height or in close proximity to airports do not pose a hazard to aircraft. The TCNS and E-106 Systems advance the goal of the National Historic Preservation Act (NHPA) to protect historic properties, including Tribal religious and cultural sites. Specifically, the TCNS provides a mechanism for Tower Notifiers (applicants seeking to build a tower or collocate on a tower or consultants/entities representing them) to notify and communicate with Indian Tribes and Native Hawaiian Organizations (NHOs) regarding a proposed construction or collation, and the E-106 System works in conjunction with TCNS to enable real-time information referral and communication among the Commission, Tower Notifiers, and State Historic Preservation Officers (SHPOs). Collectively, these systems provide an efficient and transparent means to accept, review, and dispose of the Commission's wireless radio applications.

Today, the majority of applications filed in the ULS are electronic, as required by rule. Exceptions exist for the following services: (i) Part 90 Private Land Mobile Radio services for shared spectrum, spectrum in the public safety pool below 746 MHz, and spectrum in the public safety allocation above 746 MHz, except those filed by FCC-certified frequency coordinators; (ii) part 97 Amateur Radios Service, except those filed by Volunteer Examination Coordinators; (iii) part 95 General Mobile Service and Personal Radio Service, excluding 218-219 MHz service; (iv) part 80 Maritime Services, excluding VHF 156-162 MHz Public Coast Stations; (v) part 87 Aviation Services; (vi) part 13 Commercial Radio Operators (individual applicants only); and (vii) certain part 101 licensees who also fall under the exempted groups. 47 CFR 1.913(d)(1)(i)-(vii). Similarly, the overwhelming majority of ASR applications are filed electronically; however, applicants have the choice to file manually or electronically. TCNS is an electronic-only system, so all interactions with it are electronic by design. However, TCNS is a voluntary system; Tower Notifiers can, but are not required under any Commission rule, use TCNS as the vehicle to fulfill their obligation to identify and contact Indian Tribes and NHOs. Similarly, while Tower Notifiers can provide information to SHPOs via certain FCC Forms, there is no requirement that they use the E-106 system to submit these forms or otherwise file them electronically.

Correspondence with Applicants/Licensees. While the Commission corresponds electronically with applicants and licensees in some instances, there remains a large amount of paper communication generated by the ULS and its supporting systems. Across these systems, the relevant applications and FCC Forms provide an opportunity, but do not require, users to provide an email address as part of their contact information. The Wireless Telecommunications and Public Safety and Homeland Security Bureaus (the Bureaus) by practice send correspondence generated by these systems to applicants and licensees, such as copies of licenses, reminder letters, and other courtesy notices. The Bureaus send thousands of these letters via U.S. Postal Mail each year.

A. Mandatory Electronic Filing

ULS and ASR. In 1998, the Commission adopted mandatory electronic filing for some applications and related filings in the ULS. In doing so, it noted many benefits to mandatory electronic filing, including streamlining Wireless Radio Services (WRS) application processing, affording parties a quick and economical process to file applications, and making licensing information quickly and easily available to interested parties and the public. At the same time, the Commission recognized that “some wireless services applicants or licensees might lack access not only to high quality telephone lines but also computers capable of submitting their applications electronically.” Biennial Regulatory Review—Amendment of Parts 0, 1, 13, 22, 24, 26, 27, 80, 87, 90, 95, 97, and 101 of the Commission's Rules to Facilitate the Development and Use of the Universal Licensing System in the Wireless Telecommunications Services, et al., Report and Order, 13 FCC Rcd 21027, 21040-43, paras. 21-25 (1998) (1998 ULS Report and Order). It thus adopted several exemptions to mandatory electronic filing for a limited group of filers in services that were not subject to licensing by auction and that consisted “primarily of individuals, small businesses, or public agencies that may lack resources to convert quickly to electronic filing.” 1998 ULS Report and Order, 13 FCC Rcd at 21040, para. 20. The Commission noted that it would review this issue in the future and extend mandatory electronic filing if it found that it was “operationally feasible and cost effective.” Id.

Given the drastic changes that have occurred with regard to the ubiquity of the internet and increased personal computer access, we find it unlikely that electronic filing remains infeasible or cost-prohibitive for the previously exempted types of filers, or that they lack resources to file electronically. We therefore propose to eliminate section 1.913's exemptions to mandatory electronic filing. We seek comment on this proposal.

We note, however, that while the vast majority of ULS applications today are submitted electronically, some are still manually filed, largely from exempted filers.² Last year, for example, the Commission received about 5,000 manually filed applications out of about 425,000 total applications.³ We seek comment on whether our underlying assumptions about the ease of electronic filing for the previously exempted filers are valid. Are there still categories of individuals or entities for which electronic filing may pose enough of a burden to outweigh the benefits, such as small entities, individuals with disabilities, or low-income individuals? If so, are any exemptions still warranted? Or is the Commission's waiver process sufficient to handle such instances?

² There are a few limited categories of submissions that the ULS cannot handle electronically and that must be filed and processed manually: Two-step transactions, subleases, leases contingent on assignments, and STAs in certain market-based services.

³ About one-third of these manual filings are from Private Land Mobile Radio filers, and about one-third are Amateur Radio Service filings. Manually filed applications also include those from filers who sought and received a waiver of the electronic filing rule, or whose applications fall in the limited category that cannot be processed electronically in ULS.

We also propose to mandate electronic filing in the ASR System, which currently allows electronic filing of antenna structure registrations via FCC Form 854, but no Commission rule mandates electronic filing. We propose to revise sections 17.4 and 17.57 to specifically require electronic filing.⁴ As with filings to the ULS, we anticipate that there are many benefits to relying exclusively on electronic registrations, with few costs to ASR registrants. We anticipate that electronic submission is less, not more, burdensome for applicants, as the Commission receives very few manual ASR submissions each year, evidencing that this option is unnecessary for the overwhelming majority of registrants. Notably, out of the 7,000 applications filed in the ASR System last year, only 15 were filed manually. We seek comment on this proposal, and on whether there remains a reason to allow paper filings in the ASR System under limited circumstances. If so, is the Commission's waiver process the appropriate vehicle to address such instances?

⁴ We also take this opportunity to correct a typographic error in sections 17.4(c)(1)(ii) and 17.4(c)(1)(iv), which incorrectly refers to “paragraph I(C)(1)-(3)”and instead should refer to “I(E)(1)-(3)” for the definition of “Substantial increase in the size of the tower” in the Nationwide Programmatic Agreement for the Collocation of Wireless Antennas, 47 CFR Pt. 1, Appx. B, Section I(E)(1)-(3).

For both the ULS and ASR Systems, we seek comment on the amount of time we should provide for filers to prepare for the transition to mandatory electronic filing. Would six months be sufficient lead-time for licensees/applicants and registrants to convert their practices to electronic filing? Are there differences between the entities previously exempted from electronic ULS filings and entities that submit ASRs manually that might warrant different timelines for the respective transitions?

We also seek comment on whether the Commission's rules for filing electronic pleadings related to applications filed in the ULS and the ASR System—e.g., petitions to deny, petitions for reconsideration, applications for review, and status reports—also should be revised to require electronic filing. Most pleadings already can be filed electronically via the “Submit Pleading” link in ULS. We seek comment on whether to make electronic submission of ULS and ASR-related pleadings mandatory, to the extent they are not already. Additionally, some general Commission rules that apply to ULS and ASR applications as well as to other proceedings require service on other parties, and service must be manual, unless the party agrees otherwise. Should we revise these service requirements to permit a party to serve pleadings on other parties electronically? For proceedings in which all electronic filings are publicly available, does electronic filing itself provide sufficient notice to parties interested in the proceeding that it should be sufficient to constitute service on other parties? Should we also require or encourage that requests by members of the public for environmental review of ASR towers, and pleadings or comments related to those requests, be filed and/or served electronically? Or should we exempt certain members of the public, some of whom may, for example, live in remote areas with limited electronic or internet access, from mandatory electronic filing and/or service when they wish to file requests for environmental review or other complaints and participate in pleading cycles? Is the Commission's waiver process an appropriate vehicle to address such instances? What are the costs and benefits of each option?

TCNS and the E-106 System. Tower Notifiers that choose to use TCNS file proposed construction notices electronically. What steps could we take to encourage Tower Notifiers to use TCNS to fulfill their obligation to notify and respond to Indian Tribes and NHOs? Under the Nationwide Programmatic Agreement Regarding the Section 106 National Historic Preservation Act Review Process (NPA), Indian Tribes and NHOs may elect to receive notices and associated information from TCNS in accord with their reasonable communications preference, which may include U.S. or Express Mail.⁵ What would incentivize Tribes and NHOs to receive information and complete their reviews electronically using TCNS, and what steps can the Commission take to remove barriers, make it easier, or otherwise encourage them to do so?

⁵ The NPA requires the Commission and our applicants to communicate in a manner consistent with the reasonable wishes of Indian Tribes or NHOs. 47 CFR part 1, Appx. C § IV(C), (D) and (E). For more details on the NPA and the Commission's TCNS process, see https://www.fcc.gov/wireless/systems-utilities/tower-construction-notifications.

As part of the state historic review process of tower proposals, Tower Notifiers can provide information to State Historic Preservation Officers (SHPOs) electronically by submitting the relevant FCC Forms using either the Commission's electronic system (E-106) or a SHPO-created database. Tower Notifiers also have the option to send these forms and other communications via U.S. or Express mail. We propose to require that Tower Notifiers that chose to use the E-106 System submit FCC Forms 620 and 621 electronically, and that all of the Tower Notifiers' communications associated with the review process be made electronically. We seek comment on this approach. Because E-106 is an electronic system, all filings made by SHPOs in response to tower proposals into the system are inherently electronic. However, SHPOs are not required to use the system,⁶ and a large number of them do not: Currently, just 19 out of 59 SHPOs review tower projects via this system. We seek comment on what steps we could take to encourage SHPOs to participate in our electronic system and complete their reviews without the need for paper mail. Are there any scenarios where E-106 users might need to communicate with physical mail? We seek comment on any other changes we could make to the E-106 system itself or the review process that could reduce or eliminate the use of paper.

⁶ As with TCNS, use of E-106 is voluntary. The system was designed to save users time and resources by automating and expediting the exchange of information and correspondence in the Section 106 process.

Other Issues To Consider. Are there other situations involving the ULS and ASR System that we have not considered where electronic filing could be used? If a rule is silent on how a filing or communication should be made in connection with ULS, ASR, TCNS, or E-106, should we (subject to the limitations discussed herein) revise the rule to require an electronic filing or communication? Are there other conforming or related rule changes that the Commission should consider to facilitate these transitions? Are there other implementation issues we should consider? For example, do we need to make any changes with regard to how we handle confidential information submitted to these systems, including sensitive information submitted by Tribes? Are there any accessibility-related issues we should be aware of that could impact our finalizing the transition to electronic filings? We note that we will continue to meet our requirement to provide accommodations for people with disabilities, and seek comment on how best to ensure compliance with the requirements of Sections 504 and 508 of the Rehabilitation Act of 1973, or any other relevant statute, in requiring electronic filing.

Currently, if an application that is required to be filed electronically is manually filed without a waiver request, the Commission's practice has been to dismiss the application as defective. We propose, and seek comment on, using the same approach going forward.

B. Email Address for Applications, Registrations, and Notifications

It is currently optional—not mandatory—for applicants, licensees, registrants, Tower Notifiers, and people who otherwise use these systems to provide an email address on the relevant FCC Forms submitted to these systems. Through this optional process, we have an email address on file for roughly 60% of the more than 2.2 million active WRS licenses.⁷ To increase this number and finalize our transition to electronic correspondence and outgoing notices from these systems, we propose to require inclusion of an email address on all applications and associated FCC Forms for ULS, ASR, and TCNS/E-106. To accomplish this goal, we propose to update the respective electronic FCC Forms to require inclusion of an email address going forward. This change will be implemented as soon as feasible, based on completing any requisite updates to our electronic systems, and on any necessary Paperwork Reduction Act approval from the Office of Management and Budget.

⁷ This includes WRS licenses for which there is a licensee email address, a point-of-contact email address, or both.

We note that section 1.934 of our rules allows us to dismiss an application as defective if it is incomplete with respect to required answers to questions. Thus, once inclusion of an email address is mandatory on the respective FCC Forms, the Commission may dismiss as defective an application if an email address is not included. We also propose to amend section 1.923(i) of the Commission's rules—which requires applications to specify a U.S. Postal Mail address—to require that applications also specify an email address, and seek comment on this proposal. Alternatively, should we remove section 1.923(i) as unnecessary, given that the appropriate FCC Forms will require both U.S. Postal Mail and email addresses going forward? Should we also require an email address on all pleadings related to applications and filings in these systems? Are there other rule changes that may be warranted to make furnishing an email address mandatory within these systems? For example, section 1.5 of the Commission's rules requires licensees and applicants for a license to provide the Commission with an address where the Commission can direct correspondence. Should we revise this rule, or others, to reference email addresses?

We also seek comment on how to ensure that applicants, licensees, and registrants keep their email addresses up-to-date. Are changes to the Commission's existing rules about keeping contact information current sufficient to encompass email addresses? Should the Commission add “change of an email address” to the non-exhaustive list of minor modifications in section 1.929(k)? What changes to our rules might we need to ensure that entities with registered antenna structures in the ASR System keep email addresses current? Should we require ASR users to keep their contact information, including email addresses, current at all times? Are there reasons why we should not adopt such a requirement? Are there other ways to ensure that the Commission has accurate, up-to-date, email addresses associated with applications, licenses, and registrations across these electronic systems? Are there other ways to provide convenient means and appropriate incentives to ensure we have accurate, up-to-date email addresses? Notwithstanding that our WRS licensing data is public, are there possible privacy issues related to the collection of email addresses, and if so, how could we best address them? Currently, email addresses provided to ULS are publicly available, with certain exceptions.⁸ Should we continue using this approach going forward? If the Commission were to continue masking email addresses for certain categories of licensees, how would that affect electronic service of documents on third parties?

⁸ The public facing ULS masks email addresses, phone numbers, and fax numbers connected to licenses in the Amateur Radio Service, Aircraft Radio Service, Commercial Radio Operators Services, Ship Radio Service, and the General Mobile Radio Service (GMRS).

C. Electronic Notices, Correspondence, and Alerts

ULS and ASR. The Bureaus took steps in 2014 and 2016 to reduce the amount of paper correspondence generated by the ULS and ASR System. First, the Bureaus converted to official electronic records for authorizations, mailing hard copies of such authorizations only when an entity “opted in.” Second, they eliminated several categories of notices generated by these systems and sent to users through the U.S. Postal Service. The Bureaus cited several benefits to electronic correspondence, including saving money in terms of staff resources, paper supplies, and mailing costs, and eliminating the risk of notices getting lost or damaged in delivery.

Despite these initial steps, the ULS and ASR System still generate thousands of authorizations and letters each year that are sent via U.S. Postal Mail. Notwithstanding that official copies can be accessed electronically and downloaded, the Bureaus printed and mailed over 60,000 specifically requested hard copy authorizations each year for the past three years. In about 80% of these instances, the relevant Bureau had an email address on file for the entity to which it mailed the hard copy authorization. We propose to eliminate requests for the Bureaus to mail hard copies of these authorizations, given that users can access and download their official authorizations, leases, and registrations from the ULS and ASR System at any time.

In addition to authorizations, the Commission prints and mails hard copies of thousands of letters from the ULS and ASR System to licensees/applicants and registrants each year. For example, in 2018, the Commission printed more than 20,000 dismissal letters; more than 13,000 return letters; over 8,000 cancellation letters; about 4,000 termination letters; and roughly 4,500 letters notifying owners of registered towers of an application to change ownership. 90% of the time, the Bureaus had an email address on file for the entities receiving these letters. We propose to send these types of letters electronically using the email address on file (once applicants/licensees and registrants are required to update their contact information to include email addresses, as discussed in Part B above). We seek comment on this proposal, and on whether there is a need to maintain U.S. Postal Mail-delivered correspondence for certain categories of notices, or to certain types of recipients. Should the Commission maintain an option for licensees, applicants, and registrants to receive paper letters on a case-by-case basis? Is the Commission's waiver process sufficient to deal with any case-specific need for paper mailings? What are the costs and benefits of maintaining this option?

We also seek comment on the various implementation issues raised by transitioning to email correspondence. For example, how many email addresses should we allow on file for each licensee, applicant, registrant, Tower Notifier, or other user of systems affected by these proposed changes? Should the user be able to designate which email address is the “primary” address for all, or for certain types, of correspondence, or should all notices be sent to every email address on file? Must the email include the actual substance of the communication (e.g., an electronic copy of a dismissal letter), or could the email simply alert the user to log in to the respective system to check an electronic mailbox or administrative tab that hosts the electronic correspondence? What other vehicles of electronic communication might be an option? We note, for example, that some court systems rely on online portals for electronic communications. Commenters arguing in favor of a specific vehicle or approach to email delivery should address the costs, benefits, and feasibility of the Commission implementing the approach.

Today, about 10% of the letters we deliver by U.S. Postal Mail are returned as undeliverable. When this occurs, the Bureaus will check for any error (e.g., misspelling) and attempt to send the letter a second time. Should we use the same practice for emails that get bounced back as undeliverable (i.e., attempt to deliver twice)? If not, what approach might make sense for undeliverable electronic mail? Should there be an alert in the ULS and ASR System to let users know that a notice was sent to their on-file email address, with an electronic copy also available within those systems? Should the Bureau provide instructions or other assistance to licensees and applicants in advance of this transition, to help ensure that the recipient's email program will not block or filter Commission emails? What should be the consequence if an entity is not aware of a notice or other communication from the Bureaus because it failed to ensure its email program will not block or filter Commission emails or failed to keep its email address current? Are there other technical issues we should keep in mind as we transition to electronic correspondence?

The Bureaus also print and mail more than 60,000 hard copy courtesy letters a year, such as letters reminding licensees of important dates like renewal and construction deadlines. We seek comment on whether courtesy letters remain necessary or could be eliminated. If recipients continue to find them helpful, should we transition to sending courtesy letters via email, or would a different method of online alerting be more efficient or useful to convey important deadlines? For example, would it be helpful to receive online alerts about important deadlines in a tab or mailbox within the ULS and ASR System? If we were to start using an online alerting mechanism, are there additional categories of alerts that we should include, besides important deadlines and, for the ASR System, tower ownership changes? If so, what kind of additional alerts would be beneficial? Should the Commission send notifications to ASR applicants completing the environmental notification process, such as determinations, dispositions, and Findings of No Significant Impact (FONSIs), by electronic means only? If so, should there be an option within the system for applicants to print all or some of these notifications?

What is the appropriate timeframe for the transition of the ULS and ASR System to electronic correspondence and electronic alerts? How long after the Commission requires an email address associated with its applications should it begin using the on-file email addresses for notices and correspondence?

TCNS and E-106 System. The Bureaus printed and mailed nearly 38,000 letters last year related to the TCNS/E-106 historic preservation process. Within the limits of the NPA, which allows Indian Tribes and NHOs to choose their preferred form of communication with the Commission and Tower Notifiers, we seek comment on how to incentivize the use of electronic correspondence with Indian Tribes and NHOs to the maximum extent possible in connection to their involvement with these systems, and on what steps the Commission could take to remove barriers that might prevent their doing so. We seek comment on the same implementation, technical, and mechanical issues discussed above with respect to the ULS and ASR System. We also seek comment on the appropriate amount of time to allow for this transition.

List of Subjects

Administrative practice and procedure; Reporting and recordkeeping requirements.

Federal Communications Commission.
Marlene Dortch,
Secretary.

For the reasons discussed in the preamble, the Federal Communications Commission proposes to amend parts 1 and 17 of Title 47 of the Code of Federal Regulations as follows:

PART 1—PRACTICE AND PROCEDURE

1. The authority citation for part 1 is revised to read as follows:

Authority: 47 U.S.C. chs. 2, 5, 9, 13; 28 U.S.C. 2461 note, unless otherwise noted.

§ 1.913 [Amended]

2. In § 1.913 remove and reserve paragraph (d).

3. In § 1.923 revise paragraph (i) to read as follows:

§ 1.923 Content of applications.

* * * * *

(i) Unless an exception is set forth elsewhere in this chapter, each applicant must specify an email address and a United States Postal Service address for the Commission to serve documents or direct correspondence to the applicant.

PART 17—CONSTRUCTION, MARKING, AND LIGHTING OF ANTENNA STRUCTURES

4. The authority citation for part 17 continues to read as follows:

Authority: 47 U.S.C. 154, 301, 303, 309.

5. Amend § 17.4 by revising paragraphs (b), (c)(1)(ii), (c)(1)(iv), and (e) to read as follows:

§ 17.4 Antenna structure registration.

* * * * *

(b) Except as provided in paragraph (e) of this section, each owner of an antenna structure described in paragraph (a) of this section must file FCC Form 854 with the Commission. FCC Form 854, and all related amendments, modifications, and attachments, including environmental assessments, shall be filed electronically. Additionally, each owner of a proposed structure referred to in paragraph (a) of this section must submit a valid FAA determination of “no hazard.” In order to be considered valid by the Commission, the FAA determination of “no hazard” must not have expired prior to the date on which FCC Form 854 is received by the Commission. The height of the structure will be the highest point of the structure including any obstruction lighting or lightning arrester. If an antenna structure is not required to be registered under paragraph (a) of this section and it is voluntarily registered with the Commission after the effective date of this rule, the registrant must note on FCC Form 854 that the registration is voluntary. Voluntarily registered antenna structures are not subject to the lighting and marking requirements contained in this part.

(c) * * *

(1) * * *

(ii) For a reduction in height of an antenna structure or an increase in height that does not constitute a substantial increase in size as defined in paragraph I(E)(1)-(3) of Appendix B to part 1 of this chapter, provided that there is no construction or excavation more than 30 feet beyond the existing antenna structure property;

* * * * *

(iv) For replacement of an existing antenna structure at the same geographic location that does not require an Environmental Assessment (EA) under § 1.1307(a) through (d) of this chapter, provided the new structure will not use a less preferred lighting style, there will be no substantial increase in size as defined in paragraph I(E)(1)-(3) of Appendix B to part 1 of this chapter, and there will be no construction or excavation more than 30 feet beyond the existing antenna structure property;

* * * * *

6. Revise § 17.57 to read as follows:

§ 17.57 Report of radio transmitting antenna construction, alteration, and/or removal.

The owner of an antenna structure for which an Antenna Structure Registration Number has been obtained must notify the Commission within 5 days of completion of construction by filing FCC Form 854-R and/or dismantlement by filing FCC Form 854. The owner must also notify the Commission within 5 days of any change in structure height or change in ownership information by filing FCC Form 854. FCC Forms 854 and 854-R, and all related amendments, modifications, and attachments, shall be filed electronically.

[FR Doc. 2019-20527 Filed 9-27-19; 8:45 am]

BILLING CODE 6712-01-P